DEPARTMENT OF DEFENSE

Department of the Army; Corps of Engineers

Notice of Availability for the Final Environmental Impact Statement/Environmental Impact Report for the Proposed San Luis Obispo Creek Watershed Waterway Management Plan in the City and County of San Luis Obispo, CA

AGENCY: Department of the Army—U.S. Army Corps of Engineers, DoD.

ACTION: Notice of availability.

SUMMARY: The U.S. Army Corps of Engineers, Los Angeles District (Regulatory Branch), in coordination with the San Luis Obispo County Flood Control & Water Conservation District (Zone 9) (District) and the City of San Luis Obispo, has completed a Final Environmental Impact Statement/Environmental Impact Report (FEIS/EIR) for the San Luis Obispo Creek Watershed Waterway Management Plan. The District and City require authorization pursuant to Section 404 of the Clean Water Act for activities anticipated necessary to implement a long-term stream maintenance and management program to address regional flooding and flood control along San Luis Obispo Creek and its tributaries. Historically, project planning for activities and development within and affecting the stream corridor has been managed or guided by the policies of various different agencies with no concerted effort at consistent management techniques. The Waterway Management Plan, the Stream Maintenance and Management Plan and the Drainage Design Manual, collectively referred to as the Program, represent a consolidated effort to provide a consistent management program for the waterway and its watershed.

FOR FURTHER INFORMATION CONTACT: Questions or comments concerning the Final EIS/EIR should be directed to Mr. Bruce Henderson, Senior Project Manager, North Coast Section, Regulatory Branch, U.S. Army Corps of Engineers, 2151 Alessandro Drive, Suite 110, Ventura CA, 93001, (805) 585-2145.

SUPPLEMENTARY INFORMATION: None.

Dated: December 21, 2006.
David J. Castanon,
Chief, Regulatory Branch, Los Angeles District.

[FR Doc. E6-22599 Filed 1-4-07; 8:45 am]

BILLING CODE 3710-KF-P